DEPARTMENT OF TRANSPORTATION

Federal Aviation Administration

14 CFR Part 71

[Docket No. FAA-2020-0186; Airspace Docket No. 19-ANE-5]

RIN 2120-AA66

Amendment and Establishment of Area Navigation (RNAV) Routes; Northeastern United States

AGENCY: Federal Aviation Administration (FAA), DOT.

ACTION: Final rule.

SUMMARY: This action amends low altitude RNAV route T-300, and establish low altitude RNAV routes T-391, T-393, and T-395 in the northeastern United States. The changes reduce the dependency of the National Airspace System (NAS) on ground-based navigational systems, and assist with the transition to a more efficient Performance Based Navigation (PBN) route structure. This action also provides RNAV routing in support the FAA's VOR Minimum Operating Network (VOR MON) program.

DATES: Effective date 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC, 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Sean Hook, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the northeastern United States to improve the efficiency of the NAS by lessening the dependency on ground-based navigation aids.

History

The FAA published a notice of proposed rulemaking for Docket No. FAA-2020-0186 in the Federal Register (85 FR 16582; March 24, 2020) amending low altitude RNAV route T-300, and establishing low altitude RNAV routes T-391, T-393, and T-395 in the northeastern United States. Interested parties were invited to participate in this rulemaking effort by submitting written comments on the proposal. No comments were received.

United States Area Navigation routes are published in paragraph 6011 of FAA Order 7400.2D, dated August 8, 2019, and effective September 15, 2019, which is incorporated by reference in 14 CFR 71.1. The RNAV routes listed in the document will be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by amending low altitude RNAV route T-300, and establishing low altitude RNAV routes T-391, T-393, and T-395, in the northeastern United States. This action expands the availability of RNAV and improves the efficiency of the NAS by reducing the dependency on ground-based navigation systems. The T-routes provide RNAV capability in the northeast U.S. where certain VOR navigation aids are planned for decommissioning as part of the FAA's VOR MON program. The following is a general description of the routes.

T-300: T-300 is an existing route that currently extends between the Albany, NY (ALB) VORTAC, and the Martha's Vineyard, MA (MVY), VOR/DME. The FAA is extending T-300 north of the Albany, NY (ALB), VORTAC to the SSENA, NY, waypoint (WP). The SSENA, NY, WP is located in the vicinity of the Massena, NY (MSS), VORTAC which is planned for decommissioning at a later date. The following points are inserted between the Albany VORTAC and the SSENA WP: OTOLE, NY, Fix; GASSY, NY, Fix; OPDIE, NY, WP; UUBER, NY, WP; JONNN, NY, Fix; and the STANK, NY, WP. T-300 overlies VOR Federal airway V-203 between the Albany VORTAC, and the GASSY, NY, Fix. From that point, T-300 offsets to the east of V-203, passing through the OPDIE, NY, WP; UUBER, NY, WP; JONNN, NY, Fix; and STANK, NY, WP, to the SSENA, NY, WP.

The FAA is removing the Norwich, CT (ORW), VOR/DME; the FALMA, RI, Fix; and the Martha's Vineyard, MA, VOR/DME from the T-300 route description. The Norwich VOR/DME is replaced by the YANCT, CT, Fix which is inserted in the route description between the NELLIE, CT, Fix, and the MINNK, RI, Fix. The YANCT WP is located in the vicinity of the Norwich VOR/DME which is planned for decommissioning at a later date. Finally, the current T-300 route segment that extends between the MINNK, RI, Fix, and the Martha's Vineyard VOR/DME is removed from the route and that end of the route is realigned to proceed from the MINNK Fix southeastward to the NEWBE, RI, Fix, and the DEEPO, MA, fix.

T-391: T-391 is a new route that overlies VOR Federal airway V-29 between the TUMPS, NY, Fix, and the Massena, NY (MSS), VORTAC. T-391 extends between the TUMPS Fix and the SSENA, NY, WP. The SSENA WP is located in the vicinity of the Massena VORTAC, as described under T-300, above. T-391 includes following points between the TUMPS Fix and the SSENA WP: Syracuse, NY (SYR), VORTAC; PAGER, NY, Fix; BRUIN, NY, Fix; Watertown, NY (ART) VORTAC; WILRD, NY, Fix; and the LETUS, NY, Fix.

T-393: T-393 is a new route that overlies VOR Federal airway V-151 between the GAILS, MA, Fix, and the Burlington, VT (BTV), VOR/DME. The following points are included between the GAILS Fix and the Burlington VOR/DME: INNDY, MA, Fix; Providence, RI (PVD) VOR/DME; FOSTY, RI, Fix; PUTNM, CT, WP; GRIPE, MA, Fix; Gardner, MA (GDM), VOR/DME; KEYNN, NH, WP; STRUM, NH, Fix; UNKER, NH, Fix; MCADM, NH, Fix; LBNON, NH, WP; ZIECH, VT, Fix; DAVID, VT, Fix; Montpelier, VT (MPV), VOR/DME; CEVIB, VT, Fix; and the POROE, VT, Fix.

The PUTNM, CT WP is located in the vicinity of the Putnam, CT (PUT), VOR/DME which is planned for decommissioning at a later date. The KEYNN, NH, WP is located in the vicinity of the Keene, NH (EEN), VORTAC which is planned for decommissioning at a later date. The LBNON, NH, WP is located in the vicinity of the Lebanon, NH (LEB), VOR/DME which is planned for decommissioning at a later date.

T-395: T-395 is a new route that overlies VOR Federal airway V-322 between the Concord, NH (CON), VOR/DME and the BRLIN, NH, WP. The BRLIN WP is located in the vicinity of the Berlin, NH (BML), VOR/DME, which is planned for decommissioning at a later date. The following points is included between the Concord VOR/DME and the BRLIN WP: YECKA, NH, Fix; GRUMP, NH, Fix; LAROE, NH, Fix; NOTTY, NH, Fix; WYLIE, ME, Fix; and the JOBBY, NH, Fix.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending low altitude RNAV route T-300, and establishing low altitude RNAV routes T-391, T-393, and T-395 in the northeastern United States qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011 United States Area Navigation Routes.

* * * * *

T-300 SSENA, NY to DEEPO, MA [Amended]
SSENA, NY | WP | (Lat. 44°54′51.43″ N, long. 074°43′21.31″ W)
STANK, NY | WP | (Lat. 44°47′00.00″ N, long. 074°07′00.00″ W)
JONNN, NY | FIX | (Lat. 44°34′13.71″ N, long. 074°01′38.96″ W)
UUBER, NY | WP | (Lat. 44°28′00.25″ N, long. 074°01′10.54″ W)
OPDIE, NY | WP | (Lat. 44°16′46.05″ N, long. 074°00′14.41″ W)
GASSY, NY | FIX | (Lat. 43°24′53.26″ N, long. 073°57′50.84″ W)
OTOLE, NY | FIX | (Lat. 42°56′58.56″ N, long. 073°51′05.77″ W)
Albany, NY (ALB) | VORTAC | (Lat. 42°44′50.21″ N, long. 073°48′11.47″ W)
NELIE, CT | FIX | (Lat. 41°56′27.64″ N, long. 072°41′18.88″ W)
YANTC, CT | WP | (Lat. 41°33′22.81″ N, long. 071°59′56.95″ W)
MINNK, RI | FIX | (Lat. 41°21′40.67″ N, long. 071°25′27.20″ W)
NEWBE, RI | FIX | (Lat. 41°12′24.39″ N, long. 071°04′26.92″ W)
DEEPO, MA | FIX | (Lat. 41°06′53.96″ N, long. 070°50′09.85″ W)
* * * * * * *
T-391 TUMPS, NY to SSENA, NY [New]
TUMPS, NY | FIX | (Lat. 43°01′18.27″ N, long. 076°10′04.09″ W)
Syracuse, NY (SYR) | VORTAC | (Lat. 43°09′37.87″ N, long. 076°12′16.41″ W)
PAGER, NY | FIX | (Lat. 43°25′25.64″ N, long. 076°09′30.34″ W)
BRUIN, NY | FIX | (Lat. 43°39′59.04″ N, long. 076°06′55.97″ W)
Watertown, NY (ART) | VORTAC | (Lat. 43°57′07.67″ N, long. 076°03′52.66″ W)
WILRD, NY | FIX | (Lat. 44°15′43.61″ N, long. 075°47′03.12″ W)
LETUS, NY | FIX | (Lat. 44°37′22.34″ N, long. 075°27′11.44″ W)
SSENA, NY | WP | (Lat. 44°54′51.43″ N, long. 074°43′21.31″ W)
* * * * * * *
T-393 GAILS, MA to Burlington, VT (BTV) [New]
GAILS, MA | FIX | (Lat. 41°52′08.51″ N, long. 070°24′07.69″ W)
INNDY, MA | FIX | (Lat. 41°46′19.19″ N, long. 071°05′55.93″ W)
Providence, RI (PVD) | VOR/DME | (Lat. 41°43′27.63″ N, long. 071°25′46.71″ W)
FOSTY, RI | FIX | (Lat. 41°50′35.46″ N, long. 071°38′31.34″ W)
PUTNM, CT | WP | (Lat. 41°57′19.65″ N, long. 071°50′38.76″ W)
GRIPE, MA | FIX | (Lat. 42°08′08.87″ N, long. 071°54′32.47″ W)
Gardner, MA (GDM) | VOR/DME | (Lat. 42°32′45.31″ N, long. 072°03′29.48″ W)
KEYNN, NH | WP | (Lat. 42°47′39.99″ N, long. 072°17′30.35″ W)
STRUM, NH | FIX | (Lat. 42°55′51.18″ N, long. 072°16′48.88″ W)
UNKER, NH | FIX | (Lat. 43°20′55.19″ N, long. 072°14′40.50″ W)
MCADM, NH | FIX | (Lat. 43°32′44.84″ N, long. 072°13′39.34″ W)
LBNON, NH | WP | (Lat. 43°40′44.43″ N, long. 072°12′58.18″ W)
ZIECH, VT | FIX | (Lat. 43°49′58.39″ N, long. 072°18′14.50″ W)
DAVID, VT | FIX | (Lat. 43°54′35.43″ N, long. 072°20′53.51″ W)
Montpelier, VT (MPV) | VOR/DME | (Lat. 44°05′07.74″ N, long. 072°26′57.76″ W)
CEVIB, VT | FIX | (Lat. 44°11′40.96″ N, long. 072°42′15.29″ W)
POROE, VT | FIX | (Lat. 44°13′28.02″ N, long. 072°46′26.54″ W)
Burlington, VT (BTV) | VOR/DME | (Lat. 44°23′49.58″ N, long. 073°10′57.48″ W)
* * * * * * *
T-395 Concord, NH (CON) to BRLIN, NH [New]
Concord, NH (CON) | VOR/DME | (Lat. 43°13′11.23″ N, long. 071°34′31.63″ W)
YECKA, NH | FIX | (Lat. 43°28′08.16″ N, long. 071°26′13.93″ W)
GRUMP, NH | FIX | (Lat. 43°33′05.83″ N, long. 071°23′27.86″ W)
LAROE, NH | FIX | (Lat. 43°44′58.72″ N, long. 071°16′47.95″ W)
NOTTY, NH | FIX | (Lat. 44°01′57.29″ N, long. 071°07′11.43″ W)
WYLIE, ME | FIX | (Lat. 44°14′36.30″ N, long. 070°59′57.84″ W)
JOBBY, NH | FIX | (Lat. 44°24′34.54″ N, long. 071°04′43.11″ W)
BRLIN, NH | WP | (Lat. 44°38′00.82″ N, long. 071°11′10.32″ W)

* * * * *

Issued in Washington, DC, on August 13, 2020.
Scott M. Rosenbloom,
Acting Manager, Rules and Regulations Group.

[FR Doc. 2020-18046 Filed 8-19-20; 8:45 am]

BILLING CODE 4910-13-P